DEPARTMENT OF STATE

[Public Notice: 6814]

Notice of Intent To Renew the Charter of the Department of State's Advisory Committee on Private International Law

The Department of State intends to renew the Charter of the Advisory Committee on Private International Law established under Title 22 of the United States Code. Through the Committee, the Department of State obtains the views of the public with respect to significant private international law issues that arise in international organizations of which the United States is a Member State, in international bodies in whose work the United States has an interest, or in the foreign relations of the United States.

The Committee is comprised of representatives from other government agencies, representatives of national organizations, and experts and professionals active in the field of private international law.

Comments should be sent to Harold Burman, Executive Director, Advisory Committee on Private International Law at 202-776-8420 or BurmanHS@state.gov and to Patricia Smeltzer, 202-776-8423 or SmeltzerTK@state.gov. Copies of the draft Charter may be obtained by contacting Ms. Smeltzer.

Dated: November 12, 2009.
Keith Loken,
Assistant Legal Adviser, Office of Private International Law, Office of the Legal Adviser, Department of State.

[FR Doc. E9-27838 Filed 11-18-09; 8:45 am]

BILLING CODE 4710-08-P